DEPARTMENT OF HEALTH AND HUMAN SERVICES

Substance Abuse and Mental Health Services Administration

Center for Substance Abuse Treatment; Notice of Meeting

Pursuant to Pub. L. 92-463, notice is hereby given of a Teleconference Meeting of the Center for Substance Abuse Treatment (CSAT) National Advisory Council to be held in September 2003.

The meeting will include the review, discussion and evaluation of grant applications reviewed by Initial Review Groups (IRGs). Therefore, the meeting will be closed to the public as determined by the SAMHSA Administrator, in accordance with Title 5 U.S.C. 552b(c)(6) and 5 U.S.C. App. 2, 10(d).

A summary of the meeting and roster of council members may be obtained from: Ms. Cynthia Graham, Executive Secretary, CSAT, National Advisory Council, Rockwall II Building, Suite 619, 5600 Fishers Lane, Rockville, Maryland 20857, Telephone: (301) 443-8390.

Substantive program information may be obtained from the contact whose name and telephone number are listed below.

Committee Name: Center for Substance Abuse Treatment, National Advisory Council.

Meeting Date: September 18, 2003.

Place: Center for Substance Abuse Treatment, 5515 Security Lane, 6th Floor Conference Room, Suite 615, Rockville, MD 20852.

Type: Closed: September 18, 2003, 11 a.m. 12 p.m.

Contact: Cynthia Graham, Public Health Analyst, Telephone: (301) 443-8923, and FAX: (301) 480-6077.

This notice is being published less than fifteen days prior to the meeting date, due to urgent needs to meet timing limitation imposed by the review and funding cycle.

Dated: September 11, 2003.
Toian Vaughn,
Committee Management Officer, Substance Abuse and Mental Health Services Administration.

[FR Doc. 03-23782 Filed 9-17-03; 8:45 am]

BILLING CODE 4162-20-P